SECURITIES AND EXCHANGE COMMISSION

[Release No. IC-26459]

Notice of Applications for Deregistration under Section 8(f) of the Investment Company Act of 1940

May 28, 2004.

The following is a notice of applications for deregistration under section 8(f) of the Investment Company Act of 1940 for the month of May, 2004. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on June 22, 2004, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0504.

Millennium Income Trust [File No. 811-8816]

Summary: Applicant seeks an order declaring that it has ceased to be an investment company. On April 30, 2004, applicant made a liquidating distribution to its shareholders, based on net asset value. Expenses of $15,500 incurred in connection with the liquidation were paid by SBK-Brooks Investment Corp., applicant's principal underwriter. Applicant has retained $17,735 in cash to cover outstanding liabilities and miscellaneous expenses.

Filing Dates: The application was filed on May 5, 2004, and amended on May 24, 2004.

Applicant's Address: 135 Merchant St., Suite 230, Cincinnati, OH 45246.

Southeast Interactive Technology Fund I, LLC [File No. 811-9052]

Summary: Applicant, a closed-end investment company, seeks an order declaring that it has ceased to be an investment company. On January 28, 2000, applicant made a liquidating distribution to its shareholders, based on net asset value. Expenses of approximately $16,000 incurred in connection with the liquidation were paid by applicant.

Filing Dates: The application was filed on March 9, 2004, and amended on May 19, 2004.

Applicant's Address: 630 Davis Dr., Suite 220, Morrisville, NC 27560.

The Dresher Family of Funds [File No. 811-8177]

Summary: Applicant seeks an order declaring that it has ceased to be an investment company. On December 15, 2003, applicant made a liquidating distribution to its shareholders, based on net asset value. Expenses of $10,000 incurred in connection with the liquidation were paid by National Financial Advisors, Inc., applicant's investment adviser, or its parent company.

Filing Dates: The application was filed on December 30, 2003, and amended on May 6, 2004 and May 19, 2004.

Applicant's Address: 715 Twining Rd., Suite 202, Dresher, PA 19025.

The InvestBio Opportunity Fund [File No. 811-10605]

Summary: Applicant seeks an order declaring that it has ceased to be an investment company. On January 21, 2004, applicant made a liquidating distribution to its shareholders, based on net asset value. Expenses of $21,500 incurred in connection with the liquidation were paid by DBGI Advisors, Inc., applicant's investment advisor.

Filing Date: The application was filed on April 26, 2004.

Applicant's Address: 500 Fifth Ave., 56th Floor, New York, NY 10110.

CDC Nvest Tax Exempt Money Market Trust [File No. 811-3658]

Summary: Applicant seeks an order declaring that it has ceased to be an investment company. On November 14, 2003, applicant made a liquidating distribution to its shareholders, based on net asset value. Expenses of $46,000 incurred in connection with the liquidation were paid by CDC IXIS Asset Management Services, Inc.

Filing Date: The application was filed on May 7, 2004.

Applicant's Address: 399 Boylston St., Boston, MA 02116.

Nuveen Tax-Deferred Investment Trust [File No. 811-8695]

Summary: Applicant seeks an order declaring that it has ceased to be an investment company. Applicant has never made a public offering of its securities and does not propose to make a public offering or engage in business of any kind.

Filing Dates: The application was filed on March 17, 2004, and amended on May 14, 2004.

Applicant's Address: 333 West Wacker Dr., Chicago, IL 60606.

Oak Ridge Funds, Inc. [File No. 811-8088]

Summary: Applicant seeks an order declaring that it has ceased to be an investment company. On February 13, 2004, applicant transferred its assets to Pioneer Oak Ridge Small Cap Growth Fund and Pioneer Oak Ridge Large Cap Growth Fund, each a series of Pioneer Series Trust I, based on net asset value. Expenses of $69,664 incurred in connection with the reorganization were paid by Oak Ridge Investments, LLC, applicant's investment adviser, and Pioneer Investment Management, Inc., investment adviser for the acquiring fund.

Filing Dates: The application was filed on April 1, 2004, and amended on May 11, 2004.

Applicant's Address: 10 S. LaSalle St., Suite 1050, Chicago, IL 60603.

J.P. Morgan Hedge Fund Series/alpha, L.L.C. [File No. 811-9881]

J.P. Morgan Hedge Fund Series/core, L.L.C. [File No. 811-9883]

Summary: Each applicant, a closed-end investment company, seeks an order declaring that it has ceased to be an investment company. Applicants have never made a public offering of their securities and do not propose to make a public offering or engage in business of any kind.

Filing Dates: The applications were filed on February 19, 2004, and amended on May 3, 2004.

Applicants' Address: c/o J.P. Morgan Investment Management Inc., 522 Fifth Ave., New York, NY 10036.

The FBR Rushmore Fund, Inc. [File No. 811-4369]

Summary: Applicant seeks an order declaring that it has ceased to be an investment company. On November 28, 2003, applicant made a liquidating distribution to its shareholders, based on net asset value. Expenses of $9,134 incurred in connection with the liquidation were paid by FBR National Trust Company, applicant's administrator.

Filing Dates: The application was filed on April 7, 2004, and amended on April 30, 2004.

Applicant's Address: 4922 Fairmont Ave., Bethesda, MD 20814.

Investors Life Separate Account B [File No. 811-8478]

Summary: Applicant seeks an order declaring that it has ceased to be an investment company. As of January 1, 1997, Applicant was merged into Separate Account A of Midland National Life Insurance Company (“Midland”). All expenses incurred in connection with the merger were paid by Midland.

Filing Dates: The application was filed on December 31, 2003, and amended on April 2, 2004 and May 27, 2004.

Applicant's Address: Midland National Life Insurance Company, One Midland Plaza, Sioux Falls, South Dakota 57193.

Investors Life Separate Account D [File No. 811-7864]

Summary: Applicant seeks an order declaring that it has ceased to be an investment company. As of January 1, 1997, Applicant was merged into Separate Account C of Midland National Life Insurance Company (“Midland”). All expenses incurred in connection with the merger were paid by Midland.

Filing Dates: The application was filed on December 31, 2003 and amended on April 2, 2004 and May 27, 2004.

Applicant's Address: Midland National Life Insurance Company, One Midland Plaza, Sioux Falls, South Dakota 57193.

Exeter Insurance Fund, Inc. [File No. 811-7439]

Summary: Applicant seeks an order declaring that it has ceased to be an investment company. On December 31, 2003, applicant made a liquidating distribution, based on net asset value, after the Fund's directors determined there were no longer any assets other than seed money. Manning & Napier Advisors, Inc., applicant's investment adviser, paid all expenses incurred in connection with the liquidation.

Filing Dates: The application was filed on December 16, 2003 and amended on March 25, 2004.

Applicant's Address: 1100 Chase Square, Rochester, New York 14604.

Glenbrook Life Variable Account B [File No. 811-8235]

Summary: Applicant seeks an order declaring that it has ceased to be an investment company. On March 12, 2004 the Board of Directors voted to liquidate the applicant. All previously issued contracts had been surrendered and there were no current contractholders. Expenses of $1500 incurred in connection with the liquidation were paid by the depositor, Glenbrook Life and Annuity Company.

Filing Date: The application was filed on April 6, 2004.

Applicant's Address: 3100 Sanders Road, Northbrook, Illinois 60062.

For the Commission, by the Division of Investment Management, pursuant to delegated authority.
Margaret H. McFarland,
Deputy Secretary.

[FR Doc. 04-12691 Filed 6-3-04; 8:45 am]

BILLING CODE 8010-01-P